DEPARTMENT OF TRANSPORTATION

Federal Railroad Administration

[Docket Number FRA-2015-0095]

Petition for Waiver of Compliance

In accordance with part 211 of Title 49 Code of Federal Regulations (CFR), this document provides the public notice that by a document dated August 25, 2015, the Illinois Central Railroad Company; Wisconsin Central Ltd.; Grand Trunk Western Railroad Company; Chicago, Central and Pacific Railroad Company; Cedar River Railroad Company; Sault Ste. Marie Bridge Company; Bessemer and Lake Erie Railroad Company; and Pittsburgh and Conneaut Dock Company (collectively, “CN”) have petitioned the Federal Railroad Administration (FRA) for a waiver from certain provisions of 49 CFR 240.111 regarding motor vehicle operation safety conduct data required for the initial certification and recertification of locomotive engineers. The request was assigned Docket Number FRA-2015-0095.

The waiver requested would permit CN to initially certify or recertify locomotive engineers for a period of 60 days, and would conform to current provisions under 49 CFR 242.111(c) and (d) for the initial certification and recertification of conductors. CN believes there is no railroad safety basis that exists for not extending this same provision to locomotive engineer certification.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays. Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received within November 9, 2015 of the date of this notice will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on September 16, 2015.
Ron Hynes,
Director, Office of Technical Oversight.

[FR Doc. 2015-24055 Filed 9-22-15; 8:45 am]

BILLING CODE 4910-06-P